DEPARTMENT OF COMMERCE

International Trade Administration

[A-570-084]

Certain Quartz Surface Products From the People's Republic of China: Final Affirmative Determination of Sales at Less Than Fair Value, and Final Affirmative Determination of Critical Circumstances

AGENCY: Enforcement and Compliance, International Trade Administration, Department of Commerce.

SUMMARY: The Department of Commerce (Commerce) determines that certain quartz surface products (quartz surface products) from the People's Republic of China (China) are being, or are likely to be, sold in the United States at less than fair value (LTFV).

DATES: Applicable May 23, 2019.

FOR FURTHER INFORMATION CONTACT: Andrew Medley or Whitley Herndon, AD/CVD Operations, Office II, Enforcement and Compliance, International Trade Administration, U.S. Department of Commerce, 1401 Constitution Avenue NW, Washington, DC 20230; telephone: (202) 482-4987 or (202) 482-6274, respectively.

SUPPLEMENTARY INFORMATION:

Background

The petitioner in this investigation is Cambria Company, LLC. The mandatory respondents in this investigation are CQ International,¹ Guangzhou Hercules Quartz Stone Co., Ltd. (Hercules Quartz), Foshan Hero Stone Co., Ltd. (Hero Stone), and Foshan Yixin Stone Co., Ltd. (Yixin Stone).

¹ We have “collapsed” CQ International Limited with two affiliated companies, Suzhou Colorquartzstone New Material Co., Ltd. and Shanghai Meiyang Stone Co., Ltd., and, as a result, we are treating them as a single-entity (collectively, CQ International).

On November 20, 2018, Commerce published the Preliminary Determination of sales at LTFV of quartz surface products from China.² A summary of the events that occurred since Commerce published the Preliminary Determination, as well as a full discussion of the issues raised by the parties for this final determination, may be found in the Issues and Decision Memorandum, which is hereby adopted by this notice.³ The Issues and Decision Memorandum is a public document and is on file electronically via Enforcement and Compliance's Antidumping and Countervailing Duty Centralized Electronic Service System (ACCESS). ACCESS is available to registered users at http://access.trade.gov, and ACCESS is available to all parties in the Central Records Unit, Room B8024 of the main Commerce building. In addition, a complete version of the Issues and Decision Memorandum can be accessed directly at http://enforcement.trade.gov/frn/index.html. The signed and electronic versions of the Issues and Decision Memorandum are identical in content.

² See Certain Quartz Surface Products from the People's Republic of China: Preliminary Determination of Sales at Less Than Fair Value and Postponement of Final Determination, 83 FR 58540 (November 20, 2018) (Preliminary Determination), and accompanying Preliminary Decision Memorandum.

³ See Memorandum, “Issues and Decision Memorandum for the Final Affirmative Determination in the Less-Than-Fair-Value Investigation of Certain Quartz Surface Products from the People's Republic of China,” dated concurrently with, and hereby adopted by, this notice (Issues and Decision Memorandum).

Commerce exercised its discretion to toll all deadlines affected by the partial Federal government closure from December 22, 2018, through the resumption of operations on January 29, 2019.⁴ The revised deadline for the final determination of this investigation is now May 14, 2019.

⁴ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Period of Investigation

The period of investigation is October 1, 2017, through March 31, 2018.

Scope of the Investigation

The products covered by this investigation are quartz surface products from China. For a complete description of the scope of this investigation, see Appendix I.

Scope Comments

During the course of this investigation, and the concurrent countervailing duty (CVD) investigation of quartz surface products from China, Commerce received scope comments from interested parties. Commerce issued a Preliminary Scope Decision Memorandum to address these comments and set aside a period of time for parties to address scope issues in scope case and rebuttal briefs.⁵ We received comments from interested parties on the Preliminary Scope Decision Memorandum, which we addressed in the Final Scope Decision Memorandum.⁶ In addition, on February 14, 2019, the petitioner submitted a proposed clarification to the scope of this and the concurrent CVD investigation.⁷ In response to the petitioner's proposed scope clarification, Commerce established a separate scope briefing schedule and received case and rebuttal briefs regarding the proposed clarification, which we addressed in the Proposed Scope Clarification Decision Memorandum.⁸ As a result, for this final determination, we made certain changes to the scope of these investigations from that published in the Preliminary Determination.⁹ See Appendix I.

⁵ See Memorandum, “Certain Quartz Surface Products from the People's Republic of China: Scope Comments Decision Memorandum for the Preliminary Determination,” dated September 14, 2018 (Preliminary Scope Decision Memorandum).

⁶ See Memorandum, “Certain Quartz Surface Products from the People's Republic of China: Final Scope Comments Decision Memorandum,” dated May 10, 2019 (Final Scope Decision Memorandum).

⁷ See Petitioner's Letter, “Certain Quartz Surface Products from the People's Republic of China: Request to Extend Deadline to Submit Factual Information,” dated February 14, 2019.

⁸ See Memorandum, Certain Quartz Surface Products from the People's Republic of China: Proposed Scope Clarification Decision Memorandum,” dated concurrently with this notice (Proposed Scope Clarification Memorandum).

⁹ This scope modification will not apply to merchandise entered prior to the publication of this notice in the Federal Register.

Final Affirmative Determination of Critical Circumstances

In accordance with 735(a)(3) of the Tariff Act of 1930, as amended (the Act) and 19 CFR 351.206, Commerce determines that critical circumstances exist with respect to imports of quartz surface products from CQ International,¹⁰ Foshan Yixin Stone Co., Ltd. (Yixin Stone), all non-individually examined companies receiving a separate rate, and the China-wide entity. For a full description of the methodology and results of Commerce's final affirmative critical circumstances analysis, see the Issues and Decision Memorandum at Comment 2.

¹⁰ We have “collapsed” CQ International Limited with two affiliated companies, Suzhou Colorquartzstone New Material Co., Ltd. and Shanghai Meiyang Stone Co., Ltd., and, as a result, we are treating them as a single-entity (collectively, CQ International).

Analysis of Comments Received

In the Issues and Decision Memorandum, we address all issues raised in parties' case and rebuttal briefs, other than those issues related to scope. A list of the issues that parties raised, and to which we responded in the Issues and Decision Memorandum, is attached to this notice as Appendix II.

Methodology

Commerce conducted this investigation in accordance with section 731 of the Act. Export price was calculated in accordance with section 772(a) of the Act. Constructed export price was calculated in accordance with section 772(b) of the Act. Because China is a non-market economy within the meaning of section 771(18) of the Act, normal value (NV) was calculated in accordance with section 773(c) of the Act. For a full description of the methodology underlying Commerce's determination, see the Preliminary Decision Memorandum; see also the Issues and Decision Memorandum.

Verification

As provided in section 782(i) of the Act, Commerce verified the sales and factors of production data reported by CQ International and Yixin Stone. We used standard verification procedures, including an examination of relevant accounting and production records, and original source documents provided by the respondents.

Changes Since the Preliminary Determination

Based on our review and analysis of the comments received from interested parties, and our findings at verification, we made certain changes to the calculation of the antidumping duty margins applicable to CQ International, Yixin Stone, those companies entitled to a separate rate, and the China-wide entity. Further, we now find Hercules Quartz to be part of the China-wide entity. For a discussion of these changes, see the Issues and Decision Memorandum.

China-Wide Entity and Use of Adverse Facts Available

For the reasons explained in the Preliminary Determination, we continue to find that the use of adverse facts available (AFA), pursuant to sections 776(a) and (b) of the Act, is warranted in determining the rate for the China-wide entity.¹¹ In selecting the AFA rate for the China-wide entity, Commerce's practice is to select a rate that is sufficiently adverse to ensure that the uncooperative party does not obtain a more favorable result by failing to cooperate than if it had fully cooperated.¹² Specifically, it is Commerce's practice to select, as an AFA rate, the higher of: (a) The highest dumping margin alleged in the petition; or, (b) the highest calculated dumping margin of any respondent in the investigation.¹³ For the final determination, we are assigning the China-wide entity, as AFA, the highest petition margin of 336.69 percent. We are able to corroborate the highest petition dumping margin, to the extent practicable within the meaning of section 776(c) of the Act, using transaction-specific dumping margins calculated for CQ International and Yixin Stone and, thus, we assigned this dumping margin to the China-wide entity as AFA. For further discussion, see the Issues and Decision Memorandum at “Use of Adverse Facts Available.”

¹¹ The China-wide entity includes Foshan Hero Stone Co., Ltd.; Foshan Quartz Stone Imp & Exp Co., Ltd.; Guangzhou Hercules Quartz Stone Co., Ltd.; Hero Stone Co., Ltd.; and Vemy Quartz Surface Co., Ltd.

¹² See, e.g., Notice of Preliminary Determination of Sales at Less Than Fair Value and Postponement of Final Determination: Purified Carboxymethyl Cellulose from Finland, 69 FR 77216 (December 27, 2004), unchanged in Notice of Final Determination of Sales at Less Than Fair Value: Purified Carboxymethyl Cellulose from Finland, 70 FR 28279 (May 17, 2005).

¹³ See, e.g., Certain Stilbenic Optical Brightening Agents from the People's Republic of China: Final Determination of Sales at Less Than Fair Value, 77 FR 17436, 17438 (March 26, 2012); Final Determination of Sales at Less Than Fair Value: Certain Cold-Rolled Flat-Rolled Carbon Quality Steel Products from the People's Republic of China, 65 FR 34660 (May 31, 2000), and accompanying Issues and Decision Memorandum.

Separate Rates

For the final determination, we continue to find that CQ International and Yixin Stone are eligible for separate rates. Section 735(c)(5)(A) of the Act provides that the estimated “all others” rate shall be an amount equal to the weighted average of the estimated weighted-average dumping margins established for exporters and producers individually investigated, excluding zero or de minimis margins, and any margins determined entirely under section 776 of Act.¹⁴ In this proceeding, Commerce calculated an above de minimis rate that is not based entirely on facts available for two mandatory respondents under individual examination, i.e., CQ International and Yixin Stone. Thus, looking to section 735(c)(5)(A) of the Act for guidance, and consistent with our practice, we are assigning the weighted-average, based on publicly ranged sales data, of these mandatory respondents' rates as the rate for non-individually examined companies that have qualified for a separate rate.¹⁵

¹⁴ See, e.g., Ball Bearings and Parts Thereof from France, Germany, Italy, Japan, and the United Kingdom: Final Results of Antidumping Duty Administrative Reviews and Rescission of Reviews in Part, 73 FR 52823, 52824 (September 11, 2008), and accompanying Issues and Decision Memorandum at Comment 16.

¹⁵ See, e.g., Preliminary Determination of Sales at Less Than Fair Value and Partial Affirmative Determination of Critical Circumstances: Certain Polyester Staple Fiber from the People's Republic of China, 71 FR 77373, 77377 (December 26, 2006), unchanged in Final Determination of Sales at Less Than Fair Value and Partial Affirmative Determination of Critical Circumstances: Certain Polyester Staple Fiber from the People's Republic of China, 72 FR 19690 (April 19, 2007).

Combination Rates

In the Initiation Notice,¹⁶ Commerce stated that it would calculate producer/exporter combination rates for the respondents that are eligible for a separate rate in this investigation. For a list of the respondents that established eligibility for their own separate rates and the exporter/producer combination rates applicable to these respondents, see Appendix III.

¹⁶ See Certain Quartz Surface Products from the People's Republic of China: Initiation of Less-Than-Fair-Value Investigation, 83 FR 22613, 22617 (May 16, 2018) (Initiation Notice).

Final Determination

Commerce determines that quartz surface products from China are being, or are likely to be, sold in the United States at LTFV, and that the following dumping margins exist:

Exporter | Producer | Estimated weighted- average dumping margin (percent) | Cash deposit rate (adjusted for subsidy offset) (percent)
Foshan Yixin Stone Co., Ltd | Foshan Yixin Stone Co., Ltd | 333.09 | 295.02
Foshan Yixin Stone Co., Ltd | QingYuan Yue Feng Decoration Material Co., Ltd | 333.09 | 295.02
Suzhou Colorquartzstone New Material Co., Ltd., Shanghai Meiyang Stone Co., Ltd., CQ International Limited | Suzhou Colorquartzstone New Material Co., Ltd. and Shanghai Meiyang Stone Co., Ltd | 265.81 | 255.27
Non-Individually Examined Exporters Receiving Separate Rates (see Appendix III) | Producers Supplying the Non-Individually-Examined Exporters Receiving Separate Rates (see Appendix III) | 297.40 | 259.33
China-Wide Entity ¹⁷ | China-Wide Entity | 336.69 | 326.15

Disclosure

We intend to disclose the calculations performed to parties in this proceeding within five days of the date of publication of this notice, in accordance with 19 CFR 351.224(b).

¹⁷ The following companies failed to establish their eligibility for a separate rate and, therefore, are part of the China-wide entity: Foshan Hero Stone Co., Ltd.; Foshan Quartz Stone Imp & Exp Co., Ltd.; Guangzhou Hercules Quartz Stone Co., Ltd.; Hero Stone Co., Ltd.; and Vemy Quartz Surface Co., Ltd. See Preliminary Decision Memorandum; see also Issues and Decision Memorandum.

Continuation of Suspension of Liquidation

In accordance with section 735(c)(1)(B) of the Act, Commerce will instruct U.S. Customs and Border Protection (CBP) to continue to suspend liquidation of all appropriate entries of quartz surface products from CQ International, Yixin Stone, the separate rates companies, and the China-wide entity, and, in accordance with section 735(c)(4)(B) of the Act, because we continue to find that critical circumstances exist, we will instruct CBP to continue to suspend liquidation of all appropriate entries of quartz surface products which were entered, or withdrawn from warehouse, for consumption on or after August 22, 2018, which is 90 days prior to the date of publication of the Preliminary Determination of this investigation in the Federal Register.

To determine the cash deposit rate, Commerce normally adjusts the estimated weighted-average dumping margin by the amount of domestic subsidy pass-through and export subsidies determined in a companion CVD proceeding when CVD provisional measures are in effect. Accordingly, where Commerce makes an affirmative determination for domestic subsidy pass-through or export subsidies, Commerce offsets the calculated estimated weighted-average dumping margin by the appropriate rate(s). In this case, we have made an affirmative determination for domestic subsidy pass-through and export subsidies for certain respondents. However, suspension of liquidation for provisional measures in the companion CVD case has been discontinued; therefore, we are not instructing CBP to collect cash deposits based upon the adjusted estimated weighted-average dumping margin for those subsidies at this time.

In addition, pursuant to section 735(c)(1)(B)(ii) of the Act, Commerce will instruct CBP to require a cash deposit equal to the weighted-average amount by which NV exceeds U.S. price as follows: (1) The cash deposit rate for the exporter/producer combination listed in the table above or in Appendix III will be the rate identified for that combination in that table or Appendix III; (2) for all combinations of exporters/producers of merchandise under consideration that have not received their own separate rate above or in Appendix III, the cash deposit rate will be the cash deposit rate established for the China-wide entity; and (3) for all non-Chinese exporters of the merchandise under consideration which have not received their own separate rate above, the cash deposit rate will be the cash deposit rate applicable to the Chinese exporter/producer combination that supplied that non-Chinese exporter. These suspension of liquidation instructions will remain in effect until further notice.

International Trade Commission Notification

In accordance with section 735(d) of the Act, we will notify the International Trade Commission (ITC) of the final affirmative determination of sales at LTFV. Because Commerce's final determination is affirmative, in accordance with section 735(b)(2) of the Act, the ITC will determine, within 45 days, whether the domestic industry in the United States is materially injured, or threatened with material injury, by reason of imports of quartz surface products from China, or sales (or the likelihood of sales) for importation, of quartz surface products from China. If the ITC determines that material injury or threat of material injury does not exist, the proceeding will be terminated, and all cash deposits will be refunded. If the ITC determines that such injury does exist, Commerce will issue an antidumping duty order directing CBP to assess, upon further instruction by Commerce, antidumping duties on all imports of the subject merchandise entered, or withdrawn from warehouse, for consumption on or after the effective date of the suspension of liquidation.

Notification Regarding Administrative Protective Orders

In the event that the ITC issues a final negative injury determination, this notice will serve as the only reminder to parties subject to an administrative protective order (APO) of their responsibility concerning the disposition of proprietary information disclosed under APO in accordance with 19 CFR 351.305(a)(3). Timely written notification of the return or destruction of APO materials, or conversion to judicial protective order, is hereby requested. Failure to comply with the regulations and terms of an APO is a sanctionable violation.

Notification to Interested Parties

This determination is issued and published in accordance with sections 735(d) and 777(i)(1) of the Act, and 19 CFR 351.210(c).

Dated: May 14, 2019.
Jeffrey I. Kessler,
Assistant Secretary for Enforcement and Compliance.

Appendix I

Scope of the Investigation

The merchandise covered by the investigation is certain quartz surface products.¹⁸ Quartz surface products consist of slabs and other surfaces created from a mixture of materials that includes predominately silica (e.g., quartz, quartz powder, cristobalite) as well as a resin binder (e.g., an unsaturated polyester). The incorporation of other materials, including, but not limited to, pigments, cement, or other additives does not remove the merchandise from the scope of the investigation. However, the scope of the investigation only includes products where the silica content is greater than any other single material, by actual weight. Quartz surface products are typically sold as rectangular slabs with a total surface area of approximately 45 to 60 square feet and a nominal thickness of one, two, or three centimeters. However, the scope of this investigation includes surface products of all other sizes, thicknesses, and shapes. In addition to slabs, the scope of this investigation includes, but is not limited to, other surfaces such as countertops, backsplashes, vanity tops, bar tops, work tops, tabletops, flooring, wall facing, shower surrounds, fire place surrounds, mantels, and tiles. Certain quartz surface products are covered by the investigation whether polished or unpolished, cut or uncut, fabricated or not fabricated, cured or uncured, edged or not edged, finished or unfinished, thermoformed or not thermoformed, packaged or unpackaged, and regardless of the type of surface finish.

¹⁸ Quartz surface products may also generally be referred to as engineered stone or quartz, artificial stone or quartz, agglomerated stone or quartz, synthetic stone or quartz, processed stone or quartz, manufactured stone or quartz, and Bretonstone®.

In addition, quartz surface products are covered by the investigation whether or not they are imported attached to, or in conjunction with, non-subject merchandise such as sinks, sink bowls, vanities, cabinets, and furniture. If quartz surface products are imported attached to, or in conjunction with, such non-subject merchandise, only the quartz surface product is covered by the scope.

Subject merchandise includes material matching the above description that has been finished, packaged, or otherwise fabricated in a third country, including by cutting, polishing, curing, edging, thermoforming, attaching to, or packaging with another product, or any other finishing, packaging, or fabrication that would not otherwise remove the merchandise from the scope of the investigation if performed in the country of manufacture of the quartz surface products.

The scope of the investigation does not cover quarried stone surface products, such as granite, marble, soapstone, or quartzite. Specifically excluded from the scope of the investigation are crushed glass surface products. Crushed glass surface products must meet each of the following criteria to qualify for this exclusion: (1) The crushed glass content is greater than any other single material, by actual weight; (2) there are pieces of crushed glass visible across the surface of the product; (3) at least some of the individual pieces of crushed glass that are visible across the surface are larger than one centimeter wide as measured at their widest cross-section (glass pieces); and (4) the distance between any single glass piece and the closest separate glass piece does not exceed three inches.

The products subject to the scope are currently classified in the Harmonized Tariff Schedule of the United States (HTSUS) under the following subheading: 6810.99.0010. Subject merchandise may also enter under subheadings 6810.11.0010, 6810.11.0070, 6810.19.1200, 6810.19.1400, 6810.19.5000, 6810.91.0000, 6810.99.0080, 6815.99.4070, 2506.10.0010, 2506.10.0050, 2506.20.0010, 2506.20.0080, and 7016.90.10. The HTSUS subheadings set forth above are provided for convenience and U.S. Customs purposes only. The written description of the scope is dispositive.

Appendix II

List of Topics Discussed in the Issues and Decision Memorandum

I. Summary

II. Background

III. Scope Comments

IV. Use of Adverse Facts Available

V. Calculation Changes Since the Preliminary Determination

VI. Adjustment Under Section 777A(f) of the Act

VII. Adjustments to Cash Deposit Rates for Export Subsidies

VIII. Discussion of the Issues

General Comments

1. Industry Support for Initiating This Investigation

2. Critical Circumstances

3. Authority To Collect Cash Deposits Based Upon an Affirmative Preliminary Critical Circumstances Determination

4. Voluntary Respondent

5. Procedural Issues

6. Overhead Materials

7. Preliminary Dumping Margin

Surrogate Values

8. Surrogate Country

9. Surrogate Value for Quartz Powder

10. Surrogate Values for Transportation and Brokerage and Handling

11. Surrogate Financial Statements

Company-Specific Comments

12. CQ International Verification Failures

13. CQ International Ministerial Errors

14. CQ International Indirect Selling Ratios

15. Hero Stone's Separate Rate Eligibility

16. Yixin Stone's Port Distance

17. Yixin Stone's Packing Costs

IX. Recommendation

Appendix III

Separate Rates Companies
Exporter: Non-individually examined exporters receiving separate rates | Producer: Producers supplying the non-individually-examined exporters receiving separate rates
Anhui Youlisi Quartz Building Materials Co., Ltd d.b.a Anhui Uviistone Quartz Building Material Co., Ltd | Anhui Youlisi Quartz Building Materials Co., Ltd d.b.a Anhui Uviistone Quartz Building Material Co., Ltd.
Ansen Investment And Development Co., Limited | Yunfu Honghai Stone Co., Ltd.
Ansen Investment And Development Co., Limited | Foshan Adamant Science & Technology Co., Ltd.
Ansen Investment And Development Co., Limited | Heshan City Nande Stone Co., Ltd.
Ansen Investment And Development Co., Limited | Dongguan Lafite Quartz-Stone Co., Ltd.
Ansen Investment And Development Co., Limited | Foshan Shunde O'Riordan Building Materials Manufacture Co., Ltd.
Aurea Stone Solutions Inc | Jiangxi Fasa Industrial Corporation Limited.
Best Bath & Kitchen Co., Limited | Fujian Province Kaisida Quartz Co., Ltd.
Best Cheer (Xiamen) Stone Works Co., Ltd | Best Cheer (Xiamen) Stone Works Co., Ltd.
Best Cheer (Xiamen) Stone Works Co., Ltd | Quanzhou Best Cheer Industry Co., Ltd.
Bestone High Tech Materials Co., Limited | Bestone High Tech Materials Co., Limited.
Bestone High Tech Materials Co., Limited | GuangDong Bosun Quartz Stone Co., Ltd.
Bestone High Tech Materials Co., Limited | Heshan Biyu Stone Co., Ltd.
Bestview (Fuzhou) Import & Export Co. Ltd | Dongguan Lafite Quartz Stone Co., Ltd.
Bestview (Fuzhou) Import & Export Co. Ltd | Nanan Fute Stone Co., Ltd.
Bestview (Fuzhou) Import & Export Co. Ltd | Foshan City Lewistone New Material Co., Limited.
Bestview (Fuzhou) Import & Export Co. Ltd | Yifeng Industries Corporation Co., Ltd.
Deyuan Panmin International Limited | Fujian Panmin Co., Ltd.
DH Group Co., Limited d.b.a. Xiamen DH Stone Co., Limited | DH Group Co., Limited.
DH Group Co., Limited d.b.a. Xiamen DH Stone Co., Limited | Nan An Zheng Shun Building Material Co., Ltd.
DH Group Co., Limited d.b.a. Xiamen DH Stone Co., Limited | Nan An Ju Jiu Building Materials Co., Ltd.
DH Group Co., Limited d.b.a. Xiamen DH Stone Co., Limited | Whitley New Material Co., Ltd.
East Asia Limited | Heshan City Nande Co., Ltd.
East Asia Limited | Vemy Quartz Surface Co., Ltd.
East Asia Limited | Lanling Jinzhao New Material Co., Ltd.
East Asia Limited | Rong Hua Fu Quartz Co., Ltd.
East Asia Limited | Runtai Stone Co., Ltd.
Elite Industry International Group Limited | Heshan Biyu Stone Industry Co., Ltd.
Enming Art Stone Co., Ltd | Thinking Industries Corporation Limited.
Ersten Surfaces Limited | Huizhou Zhongbo Engineering Stone Co., Ltd.
Ersten Surfaces Limited | Guangdong Xiongjie Building Materials Co., LTD.
Farfield Trade Co., Ltd | Ronghuafu Yunfu Stone Co., Ltd.
Farfield Trade Co., Ltd | Yunfu Meiao Stone Co., Ltd.
Foshan Adamant Science & Technology Co., Ltd | Foshan Adamant Science & Technology Co., Ltd.
Foshan Biyu Stone Co., Limited | Foshan City Gaoming Biyustone Co., Ltd.
Foshan Biyu Stone Co., Limited | Foshan City Gaoming Biyu New Materials Co., Ltd.
Foshan Bluesea Quartz Stone Co., Ltd | Foshan Bluesea Quartz Stone Co., Ltd.
Heshan Nande Stone Industry Co., Ltd | Heshan Nande Stone Industry Co., Ltd.
Foshan Evergreen Import and Export Co., Ltd | Foshan Yixin Stone Co., Ltd.
Foshan Leda Building Materials Co., Ltd | Foshan Leda Building Materials Co., Ltd.
Foshan Leda Building Materials Co., Ltd | Hengyang Athena Quartz Stone Co., Ltd.
Foshan Monica Quartz Stone Co., Ltd | Foshan Monica Quartz Stone Co., Ltd.
Foshan Nanhai Cuipo Artificial Quartz Co., Ltd | Yunfu Stone Solutions Co., Ltd.
Foshan Nanhai Cuipo Artificial Quartz Co., Ltd | Qingyuan Yuefeng Decoration Materials Co., Ltd.
Foshan Nanhai Cuipo Artificial Quartz Co., Ltd | Yunfu Xiangyun Stone Co., Ltd.
Foshan Nanhai Cuipo Artificial Quartz Co., Ltd | Yunfu Ronghuafu Stone Co., Ltd.
Foshan Nanhai Cuipo Artificial Quartz Co., Ltd | Heshan City Nande Stone Co., Ltd.
Foshan Nanhai Cuipo Artificial Quartz Co., Ltd | Yunfu Wayon Stone Co., Ltd.
Foshan Opalus Stone Co., Ltd | Foshan Oubo Stone Co., Ltd.
Foshan Opaly Composite Materials Co., Ltd | Foshan Opaly Composite Materials Co., Ltd.
Foshan Rongguan Glass Material For Building Co., Ltd | Foshan Rongguan Glass Material For Building Co., Ltd.
Foshan Sanshui Queen Ceramic Inc | Foshan Sanshui Queen Ceramic Inc.
Foshan Shunde O'Riordan Building Materials Manufacture Co., Ltd | Foshan Shunde O'Riordan Building Materials Manufacture Co., Ltd.
Free Trans International Trading Limited | Foshan Xianghai Quartz Stone Co., Ltd.
Free Trans International Trading Limited | Foshan Tianci Quartz Stone Co., Ltd.
Fujian Nan'an Zuci Building Material Co., Ltd | Fujian Nan'an Zuci Building Material Co., Ltd.
Fujian Nan'an Zuci Building Material Co., Ltd | Shanghai Yijin Decorating Materials Co., Ltd.
Fujian Pengxiang Industrial Co., Ltd | Fujian Pengxiang Industrial Co., Ltd.
Fujian Putian Wangzhong New Type Building Materials Co., Ltd | Fujian Putian Wangzhong New Type Building Materials Co., Ltd.
Fujian Quanzhou Risheng Stone Co., Ltd | Fujian Quanzhou Risheng Stone Co., Ltd.
Fuzhou CBM Imp. And Exp. Co., Ltd | Fujian Nan'an Zuci Building Material Co., Ltd.
Fuzhou CBM Imp. And Exp. Co., Ltd | Dongguan Lafite Quartz-Stone Co., Ltd.
Golden Dragon Stone Co., Limited | Foshan Rongguan Glass Material For Building Co., Ltd.
Golden Dragon Stone Co., Limited | One Stone Quartz Co., Ltd.
Guangdong Bitto New Material Technologies Co., Ltd | Guangdong Bitto New Material Technologies Co., Ltd.
Guangdong Bosun Quartz Stone Co., Ltd | Guangdong Bosun Quartz Stone Co., Ltd.
Guangdong Overland Ceramics Co., Ltd | Guangdong Overland Ceramics Co., Ltd.
Guangdong Zhongxun New Material Co., Ltd | Guangdong Zhongxun New Material Co., Ltd.
Guangzhou Gelandy New Material Co., Ltd | Guangzhou Gelandy New Material Co., Ltd.
Guangzhou Wei Sheng Stone Building Materials Co., Ltd | Huizhou Zhongbo Engineering Stone Co., Ltd.
HCH Industrial Co., Ltd d.b.a., Shenzhen Hengchang hao Industrial Co., Ltd | J W Quartz Co., Ltd.
HCH Industrial Co., Ltd d.b.a., Shenzhen Hengchang hao Industrial Co., Ltd | He Shan Biyu Stone Co., LTD.
HCH Industrial Co., Ltd d.b.a., Shenzhen Hengchang hao Industrial Co., Ltd | Dongguan kaisa stone Co., Ltd.
HCH Industrial Co., Ltd d.b.a., Shenzhen Hengchang hao Industrial Co., Ltd | Vemy Quartz Surfaces Co., Ltd.
HCH Industrial Co., Ltd d.b.a., Shenzhen Hengchang hao Industrial Co., Ltd | Heng Jia Stone.
HCH Industrial Co., Ltd d.b.a., Shenzhen Hengchang hao Industrial Co., Ltd | Hubei Guantai Building Materials Co., Ltd.
HCH Industrial Co., Ltd d.b.a., Shenzhen Hengchang hao Industrial Co., Ltd | Dongguan Huaxiang Stone Co., Ltd.
HCH Industrial Co., Ltd d.b.a., Shenzhen Hengchang hao Industrial Co., Ltd | Guangzhou Hercules Quartz Stone Co., Ltd.
Heshan Biyu Stone Company | Heshan Biyu Stone Company.
Hirsch Glass (Dalian) Co., Ltd | Hirsch Glass (Dalian) Co., Ltd.
Hirsch Glass (Dalian) Co., Ltd | Foshan Yixin Stone Co., Ltd.
HongKong FS Development Limited | Yunfu Chuangyun New Meterail Co., Ltd.
HongKong FS Development Limited | RONGHUAFU Yunfu Stone Co., Ltd.
Huahe Stone (Yunfu) Co., Ltd | Huahe Stone (Yunfu) Co., Ltd.
Huidong Hexingtai Industry Co., Ltd | Huidong Hexingtai Industry Co., Ltd.
Intec Stone (Xiamen) Ltd | Intec Stone (Xiamen) Ltd.
Jiangxi Jingwei Stone Co., Ltd, d.b.a. Jiangxi Jingwei Stone Material Ltd | Jiangxi Jingwei Stone Co., Ltd, d.b.a. Jiangxi Jingwei Stone Material Ltd.
Kaistar (Xiamen) Co., Ltd | Fujian Best Matrix Quartz Co., Ltd.
Kaistar (Xiamen) Co., Ltd | Kinstone (Jieyang) Stone Co., Ltd.
Kaistar (Xiamen) Co., Ltd | Jieyang Bai Sheng Stone Limited.
KBI Construction Materials Ltd | YUNFU HongHai Stone Co., Ltd.
KBI Construction Materials Ltd | Guangdong Si Hui YuLong Stone Co., Ltd.
KBI Construction Materials Ltd | Foshan Vemy Building Material Co., Ltd.
KBI Construction Materials Ltd | Foshan Adamant Science & Technology Co., Ltd.
KBI Construction Materials Ltd | Yun Fu Xiang Yun Stone Co., Ltd.
Landmark Surface Company Limited | Guangdong Lai Ma Ke Environmental Building Materials Company Limited.
Landmark Surface Company Limited | Foshan Gaoming Dexing Quartz Stone Co., Ltd.
Lanling Jinzhao New Material Co., Ltd | Lanling Jinzhao New Material Co., Ltd.
Lindberg Stone Co., Limited | Dongguan City Lafite Quartz-Stone Co., Ltd.
Lixin Stone Co., Limited | Heshan City Nande Stone Co., Ltd.
Lixin Stone Co., Limited | Guangdong Dexing Quartz Stone Co., Ltd.
Lixin Stone Co., Limited | Guangzhou Hercules Quartz Stone Co., Ltd.
Lixin Stone Co., Limited | Foshan Adamant Science & Technology Co., Ltd.
Lixin Stone Co., Limited | Vemy Building Materials Co., Ltd.
Lixin Stone Co., Limited | Yunfu Honghai Stone Co., Ltd.
Lixin Stone Co., Limited | Dongguan Lefei New Stone Materials Co., Ltd.
Lixin Stone Co., Limited | Dongguan Lafite Quartz-stone Co., Ltd.
Lixin Stone Co., Limited | Huahe Stone (Yunfu) Co., Ltd.
Lixin Stone Co., Limited | Guangdong BOSUN Quartz Stone Co., Ltd.
Lixin Stone Co., Limited | Foshan Nanhai Yachang Building Materials Products Co., Ltd.
Loyalty Enterprise Development (Xinyang) Co., Ltd | Loyalty Enterprise Development (Xinyang) Co., Ltd.
Lulong Ruitong Trading Co., Ltd | Lulong Ruitong Trading Co., Ltd.
Macostone International Industry Co., Limited | Qingyuan Yuefeng Decoration Materials Co., Ltd.
Macostone International Industry Co., Limited | Lanling Modern Materials Co., Ltd.
Monica Surfaces Company Limited | Foshan Monica Quartz Stone Co., Ltd.
Nan'an Guangtaixiang Stone Co., Ltd | Nan'an Guangtaixiang Stone Co., Ltd.
Nanchang Montary Industrial Co., Ltd | Yunfu Kimria Quarts Stone Co., Ltd.
Nanchang Montary Industrial Co., Ltd | Yunfu Montary Stone Co., Ltd.
New Powerstone Industry Co., Limited | Qing Yuan Yuefeng Quartz Stone Co., Ltd.
New Powerstone Industry Co., Limited | Shandong Whitley New Materials Co., Ltd.
New Powerstone Industry Co., Limited | Foshan Devialef New Materials Co., Ltd.
New Powerstone Industry Co., Limited | Yunan Guanglai Stone Co., Ltd.
New Powerstone Industry Co., Limited | Nanan Guangtaixiang Stone Co., Ltd.
Newstar (Quanzhou) Industrial Co., Ltd | Quanzhou Yifeng Industries Corporation.
One Stone Quartz Co., Ltd | Wuzhou Yuanhong Building Materials Product Co., Ltd.
Penglai Huasheng Electronic Co., Ltd | Shandong Sunfull Industrial Co., Ltd.
Po Nice International Trading Limited | Xinyun Stone (Yunfu) Co., Ltd.
Po Nice International Trading Limited | Guangzhou Hercules Quartz Stone Co., Ltd.
Po Nice International Trading Limited | Ronghuafu Yunfu Stone Co., Ltd.
Po Nice International Trading Limited | Henan Namei Quartz Stone Technology Co., Ltd.
Po Nice International Trading Limited | Lanling Jinzhao New Material Co., Ltd.
Po Nice International Trading Limited | Foshan Opalus Quartz Stone Co., Ltd.
Po Nice International Trading Limited | Zhejiang Tiancheng Stone Enterprise Co., Ltd.
Po Nice International Trading Limited | Zhejiang Sanxing Cheng Yuan Energy Science and Technology Co., Ltd.
Po Nice International Trading Limited | LESSO Technology Industry (Chengdu) Co., Ltd.
Qinhuangdao Jingwei Stone Co., Ltd | Qinhuangdao Jingwei Stone Co., Ltd.
Quanzhou Franco Trade Co., Ltd | Fujian Pengxiang Industrial Co., Ltd.
Quanzhou Xinxing Stone Technics Co., Ltd | Quanzhou Xinxing Stone Technics Co., Ltd.
Quanzhou Yifeng Co., Ltd. (AKA Quanzhou Yifeng Industries Corporation) | Quanzhou Yifeng Co., Ltd. (AKA Quanzhou Yifeng Industries Corporation).
Ronghuafu Yunfu Stone Co., Ltd | Ronghuafu Yunfu Stone Co., Ltd.
Shanghai Rightime International Trading Co., Ltd | Fujian Quanzhou Risheng Stone Co., Ltd.
Shunsen Industries Corporation | Shunsen Industries Corporation.
Shunsen Industries Corporation | Thinking Industries Corporation.
Sinostone (Guangdong) Co., Ltd | Sinostone (Guangdong) Co., Ltd.
Stone Solutions Co., Ltd | Stone Solutions Co., Ltd.
Sunjoin Imp. & Exp. (Xiamen) Co., Limited | Henan Namei Quartz Stone Technology Co., Ltd.
Sunjoin Imp. & Exp. (Xiamen) Co., Limited | Thinking Industries Cooperation Limited.
Sunjoin Imp. & Exp. (Xiamen) Co., Limited | Nan'an Hanwa New Building Material Co., Ltd.
Sunjoin Imp. & Exp. (Xiamen) Co., Limited | Quanzhou Yifeng Industries Corporation.
Teltos Quartz Stone Co., Ltd | Teltos Quartz Stone Co., Ltd.
Vquartz Stone Limited | Vquartz Stone Limited.
Wanfeng Compound Stone Technology Co., Ltd | Wanfeng Compound Stone Technology Co., Ltd.
Wanfu Building Materials Products Co., Ltd. Nanan Fujian | Wanfu Building Materials Products Co., Ltd. Nanan Fujian.
Wuxi Yushea Furniture Co., Ltd | Yunfu Zhengfang Stone Company.
Xiamen Ally Group Co., Ltd | Thinking Industries Corporation Limited.
Xiamen Ally Group Co., Ltd | Nanan Fute Stone Co., Ltd.
Xiamen Avanti Stone Industrial Co., Ltd | Foshan Xinyixin Stone Industry Co., Ltd.
Xiamen Best Cheer Industry Co., Ltd | Xiamen Best Cheer Industry Co., Ltd.
Xiamen Best Cheer Industry Co., Ltd | Quanzhou Best Cheer Industry Co., Ltd.
Xiamen City Yadilong Imp & Exp. Co., Ltd | Quanzhou Yifeng Co., Ltd.
Xiamen City Yadilong Imp & Exp. Co., Ltd | Xiamen Orienti New Building Materials Ltd.
Xiamen Deyuan Panmin Trading Co., Ltd | Fujian Panmin Co., Ltd.
Xiamen Duojia Stone Material Co., Ltd. d.b.a. Xiamen Multi-Family Stone Co., Ltd | Foshan Yixin Stone Co., Ltd.
Xiamen Duojia Stone Material Co., Ltd. d.b.a. Xiamen Multi-Family Stone Co., Ltd | Foshan Blue Sea Quartz Stone Co., Ltd.
Xiamen Duojia Stone Material Co., Ltd. d.b.a. Xiamen Multi-Family Stone Co., Ltd | Foshan Ronguan Glass Material For Building Co., Ltd.
Xiamen Duojia Stone Material Co., Ltd. d.b.a. Xiamen Multi-Family Stone Co., Ltd | One Stone Quartz Co., Ltd.
Xiamen Duojia Stone Material Co., Ltd. d.b.a. Xiamen Multi-Family Stone Co., Ltd | Quanzhou Yifeng Co., Ltd.
Xiamen Duojia Stone Material Co., Ltd. d.b.a. Xiamen Multi-Family Stone Co., Ltd | Xiamen Orienti New Building Materials Ltd.
Xiamen Duojia Stone Material Co., Ltd. d.b.a. Xiamen Multi-Family Stone Co., Ltd | Fujian Panmin Xincai Ltd. Co.
Xiamen Duojia Stone Material Co., Ltd. d.b.a. Xiamen Multi-Family Stone Co., Ltd | Fujian Nan'an Zuci Building Material Co., Ltd.
Xiamen Enrich Co., Ltd | Dongguan Lafite Quartz-Stone Co., Ltd.
Xiamen Enrich Co., Ltd | Quanzhou Yifeng Industries Corporation.
Xiamen Fortua (Hong Kong) Industry Co., Limited | Xiamen Fortua Industry & Trade Co., Ltd.
Xiamen Further Star Imp and Exp Co., Ltd | Quanzhou Yifeng Industries Corporation.
Xiamen Gofor Stone Co., Ltd | Huayao Stone Slab Factory.
Xiamen Good Time Stone Co., Ltd | One Stone Quartz Co., Ltd.
Xiamen Good Time Stone Co., Ltd | Lanling Jinzhao New Material Co., Ltd.
Xiamen Good Time Stone Co., Ltd | Thinking Industries Corporation Limited.
Xiamen Good Time Stone Co., Ltd | Xiamen Deyuan Panmin Trading Co., Ltd.
Xiamen Good Time Stone Co., Ltd | Quanzhou Yifeng Industries Corporation.
Xiamen Got Cheer Trading Co., Ltd. d.b.a. Xiamen Got Cheer Co., Ltd | Quanzhou Best Cheer Industry Co., Ltd.
Xiamen Got Cheer Trading Co., Ltd. d.b.a. Xiamen Got Cheer Co., Ltd | Xiamen Best Cheer Industry Co., Ltd.
Xiamen Got Cheer Trading Co., Ltd. d.b.a. Xiamen Got Cheer Co., Ltd | Best Cheer (Xiamen) Stone Works Co., Ltd.
Xiamen Honglei Imp. &. Exp. Co., Ltd. d.b.a. Honglei (Xiamen) Stone Co., Ltd | Xiamen Honglei Imp. &. Exp. Co., Ltd. d.b.a. Honglei (Xiamen) Stone Co., Ltd.
Xiamen Injoy Import & Export Co., Ltd | Thinking Industries Corporation.
Xiamen Interock Stone Co., Ltd | Loyalty Enterprise Development (XinYang) Co., Ltd.
Xiamen Interock Stone Co., Ltd | Fujian Nan'an Zuci Building Material Co., Ltd.
Xiamen Jianming Rising Import & Export Co., Ltd | Thinking Industries Corporation.
Xiamen Jianming Rising Import & Export Co., Ltd | Nan'an Hanhua New Building Materials Co., Ltd.
Xiamen Luck Stone Co., Ltd | Foshan Opaly Composites Co., Ltd.
Xiamen Luck Stone Co., Ltd | Foshan Yixin Stone Co., Ltd.
Xiamen Luck Stone Co., Ltd | Heshan Biyu Stone Co., Ltd.
Xiamen Luck Stone Co., Ltd | Shandong Whitley New Materials Co., Ltd.
Xiamen Luck Stone Co., Ltd | Vemy Building Materials Co., Ltd.
Xiamen Maoshuang Stone Industry Co., Ltd | Fujian Panmin Quartz Co., Ltd.
Xiamen Northern Mining Stone Co., Ltd | Fujian Nanan Xietai Stone Co., Ltd.
Xiamen Northern Mining Stone Co., Ltd | Fujian Nanan Mao Tong Yuan Stone Co., Ltd.
Xiamen Northern Mining Stone Co., Ltd | Fujian Nanan Run Ze Stone Co., Ltd.
Xiamen Northern Mining Stone Co., Ltd | Shandong Horizon Group Co., Ltd.
Xiamen Northern Mining Stone Co., Ltd | Lanling Jinzhao New Material Co., Ltd.
Xiamen Northern Mining Stone Co., Ltd | Fujian Panmin Quartz Co., Ltd.
Xiamen Ogrand Stone Imp. & Exp. Co., Ltd | Quanzhou Yifeng Co., Ltd Nanan Branch.
Xiamen Oriental Stone Products Co., Ltd | Nanan City Shijing Town Stone Products Factory.
Xiamen Oriental Stone Products Co., Ltd | Fujian Nanan Lianhui Stone Products Co., Ltd.
Xiamen Orienti New Building Materials Ltd | Xiamen Orienti New Building Materials Ltd.
Xiamen Qinhui Import & Export Co., Ltd | Zhangzhou Qinhui Quartz Stone Co., Ltd.
Xiamen Qinhui Import & Export Co., Ltd | Fujian Quanzhou Qinhui Stone Co., Ltd.
Xiamen Realho Stone Co., Ltd | Thinking Industries Corporation.
Xiamen Realho Stone Co., Ltd | Shandong Whitley New Materials Co., Ltd.
Xiamen Realho Stone Co., Ltd | Quanzhou Yifeng Co., Ltd.
Xiamen Realho Stone Co., Ltd | Nan'an Fute Building Material Co., Ltd.
Xiamen Shihui Stone Product Co., Ltd | Guangdong Baoxin New Stone Products Co., Ltd.
Xiamen Shihui Stone Product Co., Ltd | Yunfu Honghai Investment Co., Ltd.
Xiamen Sinocau Import & Export Co., Ltd | Jinjiang Huabao Stone Co., Ltd.
Xiamen Smarter Stone Co., Ltd | Heshan Nande Quartz Stone Co., Ltd.
Xiamen Smarter Stone Co., Ltd | Fujian Quanzhou Runze Stone Co., Ltd.
Xiamen Smarter Stone Co., Ltd | Hongsheng Stone Co., Ltd.
Xiamen Stone Forest Co., Ltd | Quanzhou Yifeng Industries Corporation.
Xiamen Stone Forest Co., Ltd | Foshan Vemy Stone Building Material Co., Ltd.
Xiamen Stone Forest Co., Ltd | Foshan Rongguan Glass Material For Building Co., Ltd.
Xiamen Stone Forest Co., Ltd | Qingyuan Yuefeng Decoration Materials Co., Ltd.
Xiamen Stone Forest Co., Ltd | Lanling Jinzhao New Material Co., Ltd.
Xiamen Stone Forest Co., Ltd | Foshan Yixin Stone Co., Ltd.
Xiamen Stone Forest Co., Ltd | Xiamen Orienti New Building Materials Ltd.
Xiamen Stone Forest Co., Ltd | Dongguan Lafite Quartz-Stone Co., Ltd.
Xiamen Stone Forest Co., Ltd | Dongguan City Hongke Quartz Stone Co., Ltd.
Xiamen Stone Harbour Co., Ltd | Fujian PengXiang Industrial Co., Ltd.
Xiamen Stone Harbour Co., Ltd | Zhangzhou QinHui Quartz Co., Ltd.
Xiamen Stonelink Imp & Exp Co., Ltd | Fujian PengXiang Industrial Co., Ltd.
Xiamen Stonelink Imp & Exp Co., Ltd | Heshan Biyu Stone Co., Ltd.
Xiamen Stonevic Co., Ltd | Heshan Biyu Stone Co., Ltd.
Xiamen Stonevic Co., Ltd | Quanzhou Yifeng Industries Co., Ltd.
Xiamen Sun Young Corporation | Yifeng Industries Corporation.
Xiamen Sun Young Corporation | Heshan City Nande Stone Co., Ltd.
Xiamen Sun Young Corporation | Benyi New Materials Co., Ltd.
Xiamen Sun Young Corporation | Fujian Quanzhou Risheng Stone Co., Ltd.
Xiamen Sun Young Corporation | Nanan Chunjia Stone Co., Ltd.
Xiamen Terry Stone Co., Ltd | Heshan Biyu Stone Co., Ltd.
Xiamen Touch Stone Co., Ltd | One Stone Quartz Co., Ltd.
Xiamen Vatro Stone Imp. & Exp. Co., Ltd | Xiamen Vatro Stone Imp. & Exp. Co., Ltd.
Xiamen Vatro Stone Imp. & Exp. Co., Ltd | Shandong Whitley New Materials Co., Ltd.
Xiamen Vesen Imp. & Exp. Trade Co., Ltd | Nanan Xingli Stone Co., Ltd.
Xiamen Wanfu Trade Co., Ltd | Xiamen Wanfu Trade Co., Ltd.
Xiamen Wanfu Trade Co., Ltd | Thinking Industries Corporation.
Xiamen Wanfu Trade Co., Ltd | Yifeng Industries Corporation.
Xiamen Wanli Stone Decoration & Design Co., Ltd | Xiamen Wanlistone Stock Co., Ltd.
Xiamen Wanli Stone Decoration & Design Co., Ltd | Quanzhou Yifeng Co., Ltd.
Xiamen Wanli Stone Decoration & Design Co., Ltd | Nan'an Fengsheng Stone Co., Ltd.
Xiamen Wanli Stone Decoration & Design Co., Ltd | Thinking Industries Corporation Limited.
Xiamen Wanli Stone Decoration & Design Co., Ltd | One Stone Quartz Co., Ltd.
Xiamen Wanli Stone Decoration & Design Co., Ltd | Taking Luck (Xiamen) Granite & Marble Co., Ltd.
Xiamen Wanlistone Stock Co., Ltd | Xiamen Wanlistone Stock Co., Ltd.
Xiamen Winson Import and Export Co., Ltd | Xiamen Oulandi New Building Materail Co., Ltd.
Xiamen Yadonglong Imp & Exp. Co., Ltd | Quanzhou Yifeng Co., Ltd.
Xiamen Yadonglong Imp & Exp. Co., Ltd | Xiamen Orienti New Building Materials Ltd.
Xiamen Yadonglong Imp & Exp. Co., Ltd | Xinmingdu Building Materials (Xiamen) Co., Ltd.
Xiamen Yalitong Stone Industrial Co., Ltd | Fujian Nanan Xudong Building Materials Co., Ltd.
Xiamen Yalitong Stone Industrial Co., Ltd | Zhongci Wanjia Decoration Materials Co., Ltd.
Xiamen Yalitong Stone Industrial Co., Ltd | Quanzhou Yifeng Co., Ltd.
Xiamen Yeyang Import & Export Co., Ltd. (AKA Xiamen Yeyang Imp&Exp Co., Ltd.) | Fujian Nanan Yuanhong Construction Materails Co., Ltd.
Xiamen Yiqing Imp. & Exp. Co., Ltd | Fujian Nanan Yuanhong Construction Materails Co., Ltd.
Xiamen Zhongguanshi Stone Industry Co., Limited | Yunan Guanglai Stone Co., Ltd.
Xiamen Zhongguanshi Stone Industry Co., Limited | Foshan Devialef New Materials Co., Ltd.
Xiamen Zhongguanshi Stone Industry Co., Limited | Nan'an Guang Tai Xiang Stone Co., Ltd.
Xiamen Zhongguanshi Stone Industry Co., Limited | Wanfeng Compound Stone Technology.
Xiamen Zhongguanshi Stone Industry Co., Limited | Foshan Xinghe Quartz Stone Co., Ltd.
Xinyun Stone (Yunfu) Co., Ltd | Xinyun Stone (Yunfu) Co., Ltd.
Yekalon Industry Inc | Foshan Xinyixin Stone Company Limited.
Yunfu Andi Stone Co., Ltd | Yunfu Andi Stone Co., Ltd.
Yunfu Chuangyun New Meterail Co., Ltd | Yunfu Chuangyun New Meterail Co., Ltd.
Yunfu Dong Shan Stone Material Co., Ltd | Yunfu Dong Shan Stone Material Co., Ltd.
Yunfu Honghai Co., Ltd | Yunfu Honghai Co., Ltd.
Yunfu Jiuru Stone Ltd | Yunfu Jiuru Stone Ltd.
Yunfu Meiao Stone Co., Ltd | Yunfu Meiao Stone Co., Ltd.
Yunfu Wayon Stone Co., Ltd | Yunfu Wayon Stone Co., Ltd.
Yunfu Wayon Stone Co., Ltd | Guangdong Wayon Industrial Co., Ltd.
Yunfu Weibao Stone Co., Ltd | Yunfu Weibao Stone Co., Ltd.
Yunfu Weibao Stone Co., Ltd | Guangdong Wayon Industrial Co., Ltd.
Yunfu Wintop Stone Co., Ltd | Yunfu Wintop Stone Co., Ltd.
Yunfu Wintop Stone Co., Ltd | Guangdong Bosun Quartz Stone Co., Ltd.
Yunfu Wintop Stone Co., Ltd | Yunfu Runtai Stone Co., Ltd.
Yunfu Wintop Stone Co., Ltd | RongHuaFu Yunfu Stone Co., Ltd.
Zhangzhou OCA Furniture Co., Ltd | Fujian Panmin Co., Ltd.
Zhangzhou OCA Furniture Co., Ltd | Wanfu Building Materials Products Co., Ltd.
Zhaoqing Aibo New Material Technology Co., Ltd | Zhaoqing Aibo New Material Technology Co., Ltd.
Zhaoqing Aibo New Material Technology Co., Ltd | Shanghai Meiyang Stone Co., Ltd.
Zhaoqing Maxstone Com., Ltd | Zhaoqing Maxstone Com., Ltd.
Zhaoqing Uni Marble Co., Ltd | Vemy Quartz Co., Ltd.
Zhaoqing Uni Marble Co., Ltd | Guangdong Bosun Quartz Stone Co., Ltd.

[FR Doc. 2019-10800 Filed 5-22-19; 8:45 am]

BILLING CODE 3510-DS-P